INTERNATIONAL TRADE COMMISSION

[Investigation No. 337-TA-1370]

Certain Power Converter Modules and Computing Systems Containing the Same; Notice of Commission Decision Not To Review an Initial Determination Granting an Unopposed Motion To Amend the Complaint and Notice of Investigation

AGENCY: U.S. International Trade Commission.

ACTION: Notice.

SUMMARY: Notice is hereby given that the U.S. International Trade Commission has determined not to review an initial determination (“ID”) (Order No. 18) of the presiding Administrative Law Judge (“ALJ”) granting an unopposed motion to amend the complaint and notice of investigation to add DET Logistics (USA) Corporation (“DET”) of Fremont, California, as a respondent.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 17, 2023, the Commission instituted this investigation under section 337 of the Tariff Act of 1930, as amended, 19 U.S.C. 1337 (“section 337”), based on a complaint filed by Vicor Corporation of Andover, Massachusetts. See 88 FR 56050-51 (Aug. 17, 2023). The complaint, as supplemented, alleges a violation of section 337 based upon the importation into the United States, the sale for importation, and the sale within the United States after importation of certain power converter modules and computing systems containing the same by reason of the infringement of certain claims of U.S. Patent Nos. 9,166,481; 9,516,761; and 10,199,950. See id. The notice of investigation names the following respondents: Delta Electronics, Inc. of Taipei, Taiwan; Delta Electronics (Americas) Ltd. of Fremont, California; Delta Electronics (USA) Inc. of Plano, Texas; Cyntec Co., Ltd. of Hsinchu, Taiwan; Quanta Computer Inc. and Quanta Cloud Technology Inc., both of Taoyuan City, Taiwan; Quanta Cloud Technology USA LLC of San Jose, California; Quanta Computer USA Inc. of Fremont, California; Hon Hai Precision Industry Co. Ltd. (d/b/a, Foxconn Technology Group) of Taipei City, Taiwan; Foxconn Industrial internet Co. Ltd. of Shenzhen, China; FII USA Inc. (a/k/a Foxconn Industrial, internet USA Inc.) of Milwaukee, Wisconsin; Ingrasys Technology Inc. of Taoyuan City, Taiwan; and Ingrasys Technology USA Inc. of Fremont, California. See id. The Office of Unfair Import Investigations is also a party to the investigation. See id.

On December 21, 2023, Complainant filed an unopposed motion to amend the complaint and notice of investigation to add DET as a respondent. No response to the motion was received.

On January 2, 2024, the ALJ issued the subject ID (Order No. 18) granting the motion. The ID finds that, under Commission Rule 210.14(b), 19 CFR 210.14(b), “good cause exists to allow the proposed amendment” because “Vicor was able to identify DET's role in the supply chain . . . only after having received confidential information from the Delta Respondents during discovery.” See ID at 2. In addition, the ID finds that “[t]he proposed amendment . . . will not prejudice the public interest or the rights of the parties to this investigation.” See id.

No petition for review of the subject ID was filed.

The Commission has determined not to review the subject ID. The complaint and notice of investigation are amended to add DET as a respondent.

The Commission vote for this determination took place on January 26, 2024.

The authority for the Commission's determination is contained in section 337 of the Tariff Act of 1930, as amended (19 U.S.C. 1337), and in part 210 of the Commission's Rules of Practice and Procedure (19 CFR part 210).

By order of the Commission.
Issued: January 29, 2024.
Lisa Barton,
Secretary to the Commission.

[FR Doc. 2024-01982 Filed 1-31-24; 8:45 am]

BILLING CODE 7020-02-P